DEPARTMENT OF COMMERCE

National Oceanic and Atmospheric Administration

RIN 0648-XD577

Western Pacific Fishery Management Council; Public Meetings

AGENCY: National Marine Fisheries Service (NMFS), National Oceanic and Atmospheric Administration (NOAA), Commerce.

ACTION: Notice of public meetings.

SUMMARY: The Western Pacific Fishery Management Council (Council) will hold advisory body meetings in Hawaii and in the Marianas Archipelago during the month of November 2014 regarding the Council's Fishery Ecosystem and Program Plans. All Marianas Fishery Ecosystem Plan Review meetings will follow the same agenda.

DATES: The Marine Planning and Climate Change Committee will meet on Wednesday, November 12, 2014, and Thursday, November 13, 2014, from 9 a.m. to 5 p.m.; Guam Marianas Archipelago Regional Ecosystem Advisory Committee will meet on Thursday, November 13, 2014, from 9 a.m. to 12 p.m.; Guam Plan Team, Advisory Panel, and other advisors on Thursday, November 13, 2014, from 2 p.m. to 8 p.m.; Commonwealth of the Northern Mariana Islands (CNMI) Plan Team, Advisory Panel, and other advisors on Saturday, November 15 from 9 a.m. to 4 p.m.; and the CNMI Marianas Archipelago Regional Ecosystem Advisory Committee on Monday, November 17 from 9 a.m. to 12 p.m.

ADDRESSES: The Marine Planning and Climate Change Committee will meet at the Council office, 1164 Bishop Street, Suite 1400, Honolulu, HI; telephone: (808) 522-8220. The meetings on Guam will be held in the Gallery at the Guam Hilton, 202 Hilton Road, Tamuning, Guam; telephone: (671) 646-1835. The meetings in the CNMI will be held in the Asuzena 2 meeting room, Fiesta Hotel, Coral Tree Avenue, Garapan, Saipan; telephone: (670) 234-6412.

FOR FURTHER INFORMATION CONTACT: Kitty M. Simonds, Executive Director; telephone: (808) 522-8220.

SUPPLEMENTARY INFORMATION:

Marine Planning and Climate Change Committee Meeting

November 12, 2014

1. Introductions

2. Approval of draft agenda

3. Approval of September 15, 2014, Committee meeting minutes

4. Implementation plan for Council actions related to marine planning & climate change

A. Review Committee's categorization & prioritization of Council's marine planning and climate change action items

B. Review comments from Scientific & Statistical Committee

C. Review comments from Council

D. Public comment

E. Committee discussion and recommended plan for implementing action items

5. Round-robin of area updates related to marine planning & climate change (time permitting)

November 13, 2014

6. Draft Marine Planning and Climate Change Policy

A. Review of fisheries in Council's jurisdiction

B. Review of Magnuson-Stevens Fisheries Conservation and Management Act's National Standards

C. Review of Council's structure and federal fishery decision-making process

D. Overview of ongoing amendments to Council's fishery ecosystem plans and programs

E. Review draft MPCC policy statement

F. Public comment

G. Committee discussion and recommendations

7. Election of Officers

8. Other business and next meeting

Guam and CNMI Meetings

Council advisors and other participants will review current issues related to the Council's program plans and fishery ecosystem plans and provide input to assist in the evaluation and update of the fishery ecosystem plans. The meetings may result in formal recommendations on these topics.

Agendas (all meetings on Guam and CNMI will follow this same agenda):

1. Welcome and Introductions

2. Overview of the Council and its Fisheries

A. Authority and Responsibilities

B. Council Structure, Programs, and Fisheries

C. Five Year Program Plan

i. Integrating Ecosystem Information

ii. Supporting Monitoring, Data Collection, and Research

iii. Building Capacity

iv. Highly Migratory Species, Trade, and Compliance

v. Reviewing Fishery Ecosystem Plans

3. Review of Council's Fishery Ecosystem Plans

A. Background

B. Purpose

C. Intended Outcomes

D. Major missing elements

i. Climate change

ii. Protected Species

iii. Social Science

iv. Connecting the dots

4. Facilitated Evaluation of Council Programs and Focus Areas

A. Pelagic Fisheries Program

B. Island Fisheries Program

C. Ecosystems Program

i. Protected Species

ii. Human Dimensions

D. Fishing Community Program

E. Education and Outreach Program

5. Other Relevant Topics

6. Discussion and Recommendations

Although non-emergency issues not contained in this agenda may come before these groups for discussion, those issues may not be the subject of formal action during these meetings. Action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: October 22, 2014.
Tracey L. Thompson,
Acting Deputy Director, Office of Sustainable Fisheries, National Marine Fisheries Service.

[FR Doc. 2014-25467 Filed 10-24-14; 8:45 am]

BILLING CODE 3510-22-P